DEPARTMENT OF TRANSPORTATION

Surface Transportation Board

[STB Finance Docket No. 34170]

Utah Transit Authority—Acquisition Exemption—Certain Assets of Union Pacific Railroad Company

The Utah Transit Authority (UTA), a noncarrier, has filed a notice of exemption under 49 CFR 1150.31 to acquire from the Union Pacific Railroad Company (UP) several railroad rights-of-way and related improvements, totaling approximately 62.77 miles, in Davis, Weber, Salt Lake and Utah Counties, UT. UTA proposes to acquire UP's right, title and interest in the following rail lines: (1) The Salt Lake Subdivision between approximately milepost 754.31 in Bountiful and approximately milepost 778.00 in Ogden; (2) the Provo Industrial Lead between approximately milepost P-775.23 in Point of Mountain and approximately milepost P-762.00 in Hardy; (3) the Sharp Subdivision between approximately milepost P-752.41 in Provo and approximately milepost P-757.25 in Lakota Junction; (4) the Tintic Industrial Lead between approximately milepost 0.00 in Springville and approximately milepost 13.06 in Payson; (5) the Sugarhouse Spur between approximately milepost 0.00 and approximately milepost 2.74 in Salt Lake City; and (6) the Bingham Industrial Lead between approximately milepost 6.60 in Bagley and approximately milepost 11.81.¹

¹ UTA also proposes to acquire from UP portions of the width of the following rights-of-way: (1) the Salt Lake Subdivision between approximately milepost 782.48 in Salt Lake City, and approximately milepost 818.05 in Ogden; (2) the Provo Subdivision between approximately milepost 705.71 at Lakota Junction and approximately milepost 729.29; (3) the Provo Subdivision between approximately milepost 729.50 and approximately milepost 745.50 in Salt Lake City; (4) the Sharp Subdivision between approximately milepost P-752.41 in Provo and approximately milepost 750.81; (5) the Sharp Subdivision between approximately milepost P-749.99 in Provo, and approximately milepost 745.82 in Spanish Fork; and (6) the Bingham Industrial Lead between approximately milepost 0.00 in Midvale, and approximately milepost 6.60 at Bagley. UTA asserts that acquisition of these portions of rail rights-of-way is not subject to Board jurisdiction, citing Sacramento Regional Transit District-Petition For Declaratory Order Regarding Carrier Status, STB Finance Docket No. 33796 (STB served July 5, 2000); and Southern Pacific Transportation Company—Abandonment Exemption—Los Angeles County, CA, 9 I.C.C.2d 385, 390 (1993).

UTA indicates that it does not intend to conduct freight rail operations on any of the lines, but is acquiring them for possible passenger rail operations. According to UTA, UP will retain an exclusive, perpetual, transferable and irrevocable easement on the lines to conduct freight operations.

Consummation of this transaction is expected to occur on or about May 30, 2002.

If the notice contains false or misleading information, the exemption is void ab initio.² Petitions to revoke the exemption under 49 U.S.C. 10502(d) may be filed at any time. The filing of a petition to revoke will not automatically stay the transaction.

² UTA simultaneously filed a motion to dismiss this proceeding, contending that the Board does not have jurisdiction over this transaction. The motion will be addressed by the Board in a separate decision.

An original and 10 copies of all pleadings, referring to STB Finance Docket No. 34170, must be filed with the Surface Transportation Board, Office of the Secretary, Case Control Unit, 1925 K Street, NW., Washington, DC 20423-0001. In addition, a copy of each pleading must be served on Kevin M. Sheys, Kirkpatrick & Lockhart LLP, 1800 Massachusetts Avenue, Suite 200, Washington, DC 20036-1221.

Board decisions and notices are available on our website at www.stb.dot.gov.

Decided: February 14, 2002.
By the Board, David M. Konschnik, Director, Office of Proceedings.
Vernon A. Williams,
Secretary.

[FR Doc. 02-4138 Filed 2-21-02; 8:45 am]

BILLING CODE 4915-00-P